DEPARTMENT OF THE INTERIOR

National Park Service

[NPS-MWR-ISRO-11142; PPMWMWROW2/PPMPSAS1Y.YP0000]

Notice of Intent To Prepare a Cultural Resources Management Plan/Environmental Impact Statement for Isle Royale National Park, Michigan

AGENCY: National Park Service, Interior.

ACTION: Notice of Intent.

SUMMARY: The National Park Service (NPS) announces its intent to prepare a Cultural Resources Management Plan/Environmental Impact Statement (CRMP/EIS) for Isle Royale National Park (ISRO), Michigan.

DATES: This notice initiates the public scoping process for the CRMP/EIS. Comments may be submitted in writing at any time; however comments will be most useful if they are made before May 1, 2013. Notices of any public scoping meetings regarding this CRMP/EIS, including specific dates, times, and locations, will be announced in the local media; in project newsletters; on the project Web site at http://parkplanning.nps.gov/ISROcrmp; or may be obtained directly by contacting the Superintendent at the address below.

ADDRESSES: Superintendent, Isle Royale National Park, 800 East Lakeshore Drive, Houghton, Michigan 49931-1896. You are encouraged to provide comments or requests to be added to the mailing list electronically through the project Web site at http://parkplanning.nps.gov/ISROcrmp or by contacting the Superintendent.

FOR FURTHER INFORMATION CONTACT: Superintendent Phyllis Green, Isle Royale National Park, 800 East Lakeshore Drive, Houghton, Michigan 49931-1896; telephone (906) 482-0984. You may also contact Liz Valencia, Chief of Interpretation/Cultural Resources; telephone (906) 487-7153; or Seth DePasqual, Cultural Resource Manager; telephone (906) 487-7146 for information related to this notice.

SUPPLEMENTARY INFORMATION: We, the NPS, are announcing our intent to prepare a CRMP/EIS. This effort will result in a plan for future management of cultural resources at ISRO.

This CRMP/EIS tiers from the 1998 General Management Plan (GMP) to develop a comprehensive strategy for managing cultural resources that would ensure consistent and appropriate identification, preservation treatment, and interpretation of these resources. The ISRO enabling legislation and the National Historic Preservation Act (16 U.S.C. 470 et seq.), as well as the Wilderness Act (16 U.S.C. 1131-36) and other laws and policies, will frame the decision-making for the CRMP/EIS. The CRMP/EIS will establish the overall management direction for ISRO cultural resources over the next 15-20 years and will integrate cultural resource management goals and objectives within the context of other key ISRO resources and values.

Cultural resources include archeological resources, cultural landscapes, ethnographic resources, museum objects, and historic structures. Some of these resources are eligible for inclusion on the National Register of Historic Places. A large portion of ISRO is water and has many submerged cultural resources, from shipwrecks to the artifacts from previous inhabitants. All but a small fraction of the ISRO landmass is wilderness (this wilderness does not extend into the water), and a mix of cultural sites can be found in wilderness and non-wilderness areas.

The CRMP/EIS will prescribe desired resource conditions and visitor experiences to be achieved and maintained for cultural resources based on the park purpose and significance, special mandates, the body of NPS and historic preservation laws and policies, resource condition analysis, and by taking into consideration the range of public expectations and concerns. The CRMP/EIS will also outline a variety of resource management activities, visitor activities, and developments with regard to cultural resources that would be appropriate at ISRO in the future. A full range of reasonable alternatives for the management, treatment, and interpretation of cultural resources will be developed through this planning process and will include, at minimum, a no-action and a preferred alternative. The potential environmental effects of each alternative will be evaluated.

The purpose of the formal public scoping process is to determine relevant issues that will influence the scope of the environmental analysis, including alternatives, and guide the process for developing the CRMP/EIS. All interested persons, organizations, agencies, and Tribes are encouraged to submit comments and suggestions on issues and concerns that should be addressed in the CRMP/EIS, and the range of appropriate alternatives that should be examined.

The NPS will use the public involvement process established by the National Environmental Policy Act (42 U.S.C. 4321- 4347) to satisfy the requirements of Section 106 of the National Historic Preservation Act (16 U.S.C. 470f), as provided for in 36 CFR 800.2(d)(3). Federal, State, and local agencies that may be interested or affected by decisions related to this project are invited to participate in the scoping process and, if eligible, may request or be requested by the NPS to participate as a cooperating agency.

We welcome your comments and assistance in our efforts, but before including your address, telephone number, email address, or other personal identifying information in a comment, you should be aware that your entire comment, including your personal identifying information, may be made publicly available at any time. While you can ask us in your comments to withhold your personal identifying information from public review, we cannot guarantee that we will be able to do so. We will make all submissions from organizations or businesses, from individuals identifying themselves as representatives or officials, or organizations or businesses, available for public inspection in their entirety.

Dated: December 21, 2012.
Michael T. Reynolds,
Regional Director, Midwest Region.

[FR Doc. 2013-06001 Filed 3-14-13; 8:45 am]

BILLING CODE 4310-MA-P